DEPARTMENT OF ENERGY

Federal Energy Regulatory Commission

[Docket No. QF08-375-000]

Town of Tarboro, NC at Spongex LLC, Tarboro, NC; Notice of Filing

January 28, 2008.

Take notice that on January 17, 2008, the Town of Tarboro, NC filed with the Commission a notice of self-certification of a facility as a qualifying cogeneration facility.

This qualifying cogeneration facility consists of a 2000 kW packaged diesel engine generator set operating on #2 fuel oil. The package is set on a concrete pad. The system includes all necessary switchgear and controls. The electricity is generated at 480 V, 3 phase, 60 Hz. The facility is located at Anaconda Road in Tarboro, NC.

This qualifying facility interconnects with the Town of Tarboro's electric distribution system. The facility will provide standby power and occasionally supplementary power to Spongex LLC.

A notice of self-certification does not institute a proceeding regarding qualifying facility status; a notice of self-certification provides notice that the entity making filing has determined the facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E8-1923 Filed 2-1-08; 8:45 am]

BILLING CODE 6717-01-P